DEPARTMENT OF ENERGY

Federal Energy Regulatory Commission

[Project No. 6032]

Niagara Mohawk Power Corporation and Fourth Branch Associates (Mechanicville); Notice of Technical Conference

November 26, 2002.

On August 12, 2002, the Commission issued an order accepting surrender of the license for the Mechanicville Project No. 6032.¹ The order required Niagara Mohawk Power Corporation to submit plans and schedules for, among other things, complying with the Commission's regulations concerning dam safety (18 CFR part 12) and for recording historic resources associated with the project prior to the effective date of surrender.

¹ 99 FERC ¶ 61,227 (2002), reh'g denied, 100 FERC ¶ 61,185 (2002), request for reconsideration pending.

On Monday, December 16, 2002, at 9 a.m., in a room to be designated at the offices of the Federal Energy Regulatory Commission, 888 First Street, NE., Washington, DC, 20426, Commission staff will hold a conference to discuss technical issues related to compliance with the dam safety regulations and to consult with respect to protection of historic resources in the context of the powerhouse stabilization measures. Parties to the proceeding and all interested persons will be permitted to attend.

Any meeting attendee wishing to propose or support an alternative to the Niagara Mohawk Power Corporation's powerhouse stabilization proposal should be prepared to: (1) Present its alternative at the meeting, including technical details such as a detailed description, an implementation schedule to accomplish the powerhouse stabilization by August 2003, and an engineering cost estimate; and (2) answer implementation and feasibility questions regarding its proposal.

Any party or interested person who is planning to attend the conference should notify Commission staff before 4:30 p.m., Wednesday, December 11, 2002. Please notify Ellen Armbruster, Office of Energy Projects, Rm 6H-07, in writing, or by calling at 202-502-8330. If any local, state or federal authorized agency representative is unable to attend but wishes to participate by teleconferencing, please so indicate. Teleconferencing details will be provided later.

Linwood A. Watson, Jr.,
Deputy Secretary.

[FR Doc. 02-30716 Filed 12-3-02; 8:45 am]

BILLING CODE 6717-01-P